Proclamation 10450 of September 16, 2022

National Farm Safety and Health Week, 2022

By the President of the United States of America

A Proclamation

America's farmers, farmworkers, and ranchers serve one of our most vital needs—they feed our Nation and sustain our communities. They steward our lands so they have the power to provide for us, generation after generation. They offer meaningful jobs to millions of people, rooted in the rewards of hard work and the beauty of nature. They help fuel our economy and enable our country to compete in markets around the globe. During National Farm Safety and Health Week, we commit to improving the safety and well-being of everyone working on our farms.

For all they provide for our Nation, we know the many barriers farmers, farmworkers, and ranchers face. Extreme weather—made more frequent and ferocious by the climate crisis—can jeopardize or destroy a season's harvest, representing months, or even years, of investment and commitment. Fluctuating commodity prices and input costs can tighten profit margins and usher in tough, lean years. Accidents and injuries can cut precious lives short, dramatically threaten the livelihoods of survivors and their families, and rob businesses of the workers they rely upon.

My Administration is supporting the implementation of robust health and safety standards on farms and ranches. With up to $65 million from the American Rescue Plan, the United States Department of Agriculture (USDA) is helping to minimize the risks of injuries on farms, on ranches, and in processing plants. The USDA is also investing $100 million into partnerships with labor unions and other workforce development experts to better train agricultural employees. For the first time, the Department of Labor's Occupational Safety and Health Administration has launched a program to conduct heat-related indoor and outdoor workplace inspections in the face of yet another season of extreme and deadly heat.

My Administration is making health insurance more affordable and health care more accessible, which is especially important for farmers, ranchers, and farmworkers who suffer injuries. My Administration's Inflation Reduction Act and American Rescue Plan lowered annual premiums for families across the country. My Administration made a historic $1.5 billion investment in health workforce loan repayment and scholarship programs to incentivize primary care clinicians and other health care providers to work in underserved areas, including rural and Tribal communities. We are providing Federal field employees with training on the best uses of mental health resources and communication strategies while scaling our investment in programs that provide professional behavioral health counseling and other services to agricultural workers. We are also calling for programs that will reduce loan repayments for mental health and substance use disorder clinicians committed to practicing in rural and other underserved communities.

Supporting the well-being of our farmers, farmworkers, and ranchers means protecting their financial health as well. Last year, I signed into law the Extending Government Funding and Delivering Emergency Assistance Act, which includes $10 billion in assistance to agricultural producers impacted by wildfires, droughts, hurricanes, and winter storms. My Administration also announced $700 million in available grant funding for State agencies, Tribal entities, and non-profit organizations to provide financial relief for farmworkers and meatpacking workers affected by the COVID-19 pandemic. We are devoted to ensuring that agricultural workers can do their jobs free from harm and that they can recover from accidents and injuries with dignity and financial security.

This week, we redouble our efforts to protect the health and safety of farmers, farmworkers, and ranchers, and we celebrate the immense contributions they have made and continue to make to our Nation.

NOW, THEREFORE, I, JOSEPH R. BIDEN JR., President of the United States of America, by virtue of the authority vested in me by the Constitution and the laws of the United States, do hereby proclaim September 18 through September 24, 2022, as National Farm Safety and Health Week. I call upon the people of the United States, including America's farmers and ranchers and agriculture-related institutions, organizations, and businesses, to reaffirm a dedication to farm safety and health. I also urge all Americans to express appreciation and gratitude to our farmers, farmworkers, and ranchers for their tireless service to our Nation.

IN WITNESS WHEREOF, I have hereunto set my hand this sixteenth day of September, in the year of our Lord two thousand twenty-two, and of the Independence of the United States of America the two hundred and forty-seventh.

[FR Doc. 2022-20580

Filed 9-20-22; 8:45 am]

Billing code 3395-F2-P